DEPARTMENT OF HEALTH AND HUMAN SERVICES

National Institutes of Health

National Library of Medicine; Notice of Meetings; Amended Notice of Meeting

Notice is hereby given of a change in the meeting of the Biomedical Library, Informatics and Data Science Review Committee, June 18-19, 2020, 8:00 a.m. to 5:00 p.m. at the Bethesda Hyatt, 1 Metro Center, Bethesda, MD 20814 which was published in the Federal Register on February 4, 2020, 85 FR 23, Page 6208.

This notice is being amended to change the meeting location from the Bethesda Hyatt, 1 Metro Center, Bethesda, MD 20814 to a video assisted meeting and to change the start time on June 18 to 9:30 a.m. The meeting is closed to the public.

Dated: March 31, 2020.
Ronald J. Livingston, Jr.,
Program Analyst, Office of Federal Advisory Committee Policy.

[FR Doc. 2020-07068 Filed 4-3-20; 8:45 am]

BILLING CODE 4140-01-P